DEPARTMENT OF TRANSPORTATION

Federal Motor Carrier Safety Administration

[Docket No. FMCSA-2008-0362]

Meetings: Medical Review Board; Revision of Notice

AGENCY: Federal Motor Carrier Safety Administration (FMCSA), DOT.

ACTION: Notice of partially closed meeting, revision.

SUMMARY: This notice announces that the Medical Review Board Advisory Committee (MRB) meeting announced on March 17, 2020, will take place via WebEx videoconference rather than in-person.

DATES: The meeting will be held on Monday and Tuesday, April 27-28, 2020, from 9:15 a.m. to 4:30 p.m. The meeting will be closed to the public on Monday, April 27 but open to the public on Tuesday, April 28. The second day of the meeting will be open to the public for its entirety. No advance registration is required for public participation on the second day.

ADDRESSES: The meeting will be held via WebEx videoconference. Those members of the public who would like to participate should go to https://www.fmcsa.dot.gov/advisory-committees/mrb/meeting-fmcsas-medical-review-board-advisory-committee-mrb to access the meeting. No advance registration is required. There will be an opportunity for participants to seek recognition to ask questions or comment during the meeting, subject to recognition by the chair. Copies of the task statement and an agenda for the entire meeting will be made available at www.fmcsa.dot.gov/mrb at least one week in advance of the meeting. Copies of the meeting minutes will be available at the website following the meeting. You may visit the MRB website at www.fmcsa.dot.gov/mrb for further information on the committee and its activities.

FOR FURTHER INFORMATION CONTACT: Ms. Shannon L. Watson, Senior Advisor to the Associate Administrator for Policy, Federal Motor Carrier Safety Administration, U.S. Department of Transportation, 1200 New Jersey Avenue SE, Washington, DC 20590, (202) 366-5221, mrb@dot.gov. Any committee-related request should be sent to the person listed in this section.

SUPPLEMENTARY INFORMATION:

I. Background

The MRB was created under the Federal Advisory Committee Act (FACA) in accordance with section 4116 of the Safe, Accountable, Flexible, Efficient Transportation Equity Act: A Legacy for Users, SAFETEA-LU, Public Law 109-59 (2005) (codified as amended at 49 U.S.C. 31149) to establish, review, and revise “medical standards for operators of commercial motor vehicles that will ensure that the physical condition of operators of commercial motor vehicles is adequate to enable them to operate the vehicles safely.” The MRB operates in accordance with FACA under the terms of the MRB charter, filed November 25, 2019.

On March 17, 2020 (85 FR 15250), the Agency published a notice announcing the April 27-28, 2020, meeting in accordance with the FACA requirements. The notice announced that the meeting would be held at the U.S. Department of Transportation, 1200 New Jersey Avenue SE, Washington, DC. Subsequently, the Agency has decided to hold the entire meeting via WebEx videoconference.

II. Agenda

The agenda will cover the following topics:

• Monday, April 27 (Closed Session): Review test questions used to determine eligibility of healthcare professionals for inclusion in the National Registry of Certified Medical Examiners (CMEs).

• Tuesday, April 28 (Public Session):

1. Finalize recommendations from the MRB's June 2019 meeting on updates to the Medical Examiner's Handbook;

2. Consider changes to the seizure standard for CMV drivers.

III. Public Participation

The first day of the meeting will be closed to the public due to the discussion of specific test questions, which are not available for release to the public. Premature disclosure of secure test information would compromise the integrity of the examination and therefore exemption 9(B) of section 552b(c) of Title 5 of the United States Code justifies closing this portion of the meeting pursuant to 41 CFR 102-3.155(a). The second day of the meeting will be open to the public via WebEx videoconference. Those members of the public who would like to participate should go to https://www.fmcsa.dot.gov/advisory-committees/mrb/meeting-fmcsas-medical-review-board-advisory-committee-mrb to access the meeting. There will be an opportunity for participants to seek recognition to ask questions or comment during the meeting, subject to recognition by the chair. There is no need for advance registration.

Larry W. Minor,
Associate Administrator for Policy.

[FR Doc. 2020-08600 Filed 4-22-20; 8:45 am]

BILLING CODE 4910-EX-P